POSTAL REGULATORY COMMISSION

39 CFR Parts 3000, 3001, 3002, 3003 and 3004

[Docket No. RM2007-2; Order No. 5]

Administrative Practice and Procedure, Postal Service

AGENCY: Postal Regulatory Commission.

ACTION: Final rule.

SUMMARY: This document identifies limited amendments to the Code of Federal Regulations (CFR) related to passage of a postal reform law. The amendments affect nomenclature, section numbering, and citation to statutory authority. These changes will facilitate operation and practice under the new law. Additional conforming changes are under consideration. Given the technical and administrative nature of the changes, comments are not required or requested.

DATES: Effective June 15, 2007. Newly redesignated § 3002.3 is suspended indefinitely.

FOR FURTHER INFORMATION CONTACT: Stephen L. Sharfman, General Counsel, 202-789-6820 and stephen.sharfman@prc.gov.

SUPPLEMENTARY INFORMATION: The Postal Accountability and Enhancement Act (PAEA), Public Law 109-435 (December 20, 2006), recast the Postal Rate Commission as the Postal Regulatory Commission and modified its responsibilities and authorities. To recognize these changes, existing provisions in the Code of Federal Regulations (CFR) must be amended. This rulemaking is part of that process.

Chapter III of title 39 of the CFR is amended to read Postal Regulatory Commission. The authority identified in Parts 3000, 3001, 3002, and 3004 as 39 U.S.C. 3603 is amended to read 39 U.S.C. 503. The name Postal Regulatory Commission is substituted for Postal Rate Commission in sections 3000.735-101, 3001.3, 3001.5(c), 3001.9(a), 3001.17(b)(1), 3001.17(b)(2), 3001.31(k)(3)(i)(i), 3001.110, 3001.114, 3001.116, 3002 section contents, 3002.1, 3002.3(a), 3003.2(a) and 3003.7.

In Part 3002—Organization, the statutory functions of the agency and its individual offices are being revised, and amended regulations will be issued in the future. To accommodate revised regulations, sections 3002.3 through 3002.7 are renumbered as 3002.10 through 3002.14, and section 3002.8, Official Seal, is renumbered as 3002.3. The provisions of renumbered section 3002.3, Official Seal, are suspended.

New section 3002.15 is added to allow for an appropriate description of the functions of the newly established Office of Public Affairs and Governmental Relations. New section 3002.16 is added to allow for an appropriate description of the functions of the newly established Office of Inspector General.

Revisions to part 3001—Rules of Practice and Procedure are also under preparation.

The following table summarizes the impact of this order on provisions in 39 CFR, part 3002.

Part 3002—Organization

3002.1 Retain without change

3002.2 Retain without change

3002.3 Redesignate as 3002.10

3002.8 Redesignate as 3002.3 and Suspend

3002.4 through 8 Retain and Reserve

3002.9 Add new section and Reserve

3002.3 Redesignate as 3002.10

3002.4 Redesignate as 3002.11

3002.5 Redesignate as 3002.12

3002.6 Redesignate as 3002.13

3002.7 Redesignate as 3002.14

Add two new sections

3002.15 Office of Public Affairs and Governmental Relations

3002.16 Office of Inspector General

Ordering Paragraphs

It is ordered:

1. The Commission adopts the revisions referred to in the body of this order.

2. The Secretary shall arrange for publication of this order in the Federal Register.

Issued March 9, 2007.
Signed June 8, 2007.
By the Commission.
Steven W. Williams,
Secretary.

List of Subjects

39 CFR Part 3000

Conflict of interest.

39 CFR Part 3001

Administrative practice and procedure, Confidential business information, Freedom of information, Sunshine Act.

39 CFR Part 3002

Organization and functions (Government agencies), Seals and insignia.

39 CFR Part 3003

Privacy.

39 CFR Part 3004

Administrative practice and procedure, Confidential business information, Freedom of information.

For the reasons stated in the preamble, under the authority at 39 U.S.C. 503, the Postal Regulatory Commission amends parts 3000, 3002, 3003, 3004 of chapter III of 39 CFR as follows:

CHAPTER III—POSTAL REGULATORY COMMISSION

1. The heading for Chapter III of title 39 is revised to read as set forth above.

PART 3000—STANDARDS OF CONDUCT

2. The authority citation for part 3000 is revised to read as follows:

Authority: 39 U.S.C. 3603; E.O. 12674; 54 FR 15159; 3 CFR, 1989 Comp., p. 215, as modified by E.O. 12731, 56 FR 42547, 3 CFR, 1990 Comp., p. 396, 5 CFR parts 2634 and 2635.

§ 3000.735-101 [Amended]

3. In § 3000.735-101, remove the words “Postal Rate Commission” and add, in their place, the words “Postal Regulatory Commission.”

PART 3001—RULES OF PRACTICE AND PROCEDURE

4. The authority citation for part 3001(a) is revised to read as follows:

Authority: 39 U.S.C. 404(b); 503; 3622-24, 3661, 3662, 3663.

§§ 3001.3, 3001.5, 3001.9, 3001.17, 3001.31, 3001.110, 3001.114, 3001.116 [Amended]

5. Remove the words “Postal Rate Commission” and add, in their place, the words “Postal Regulatory Commission” in the following places:

a. 3001.3

b. 3001.5(c)

c. 3001.9(a)

d. 3001.17(b)(1)

e. 3001.17(b)(2)

f. 3001.31(k)(3)(i)(i)

g. 3001.110

h. 3001.114

i. 3001.116

PART 3002—ORGANIZATION

6. The authority citation for Part 3002 is revised to read as follows:

Authority: 39 U.S.C. 503; 5 U.S.C. 552.

§ 3002.1 [Amended]

7. Remove the words “Postal Rate Commission” and add, in their place, the words “Postal Regulatory Commission” in § 3002.1.

§ 3002.3 [Amended]

8. Remove the words “Postal Rate Commission” and add, in their place, the words “Postal Regulatory Commission” in § 3002.3(a).

§§ 3002.3 through 3002.7 [Redesignated as §§ 3002.10 through 3002.14]

9. Redesignate §§ 3002.3 through 3002.7 as §§ 3002.10 through 3002.14.

§§ 3002.4 through 3002.7 [Removed]

10. Remove and reserve §§ 3002.4 through 3002.7.

§ 3002.8 [Redesignated as § 3002.3 and Suspended]

11. Redesignate § 3002.8 as § 3002.3 and suspend.

§ 3002.9 [Removed]

12. Remove and reserve § 3002.9.

13. Add and reserve § 3002.15.

§ 3002.15 Office of Public Affairs and Governmental Relations [Reserved]

14. Add and reserve § 3002.16.

§ 3002.16 Office of Inspector General [Reserved]

Appendix A to Part 3002 [Amended]

15. Remove the words “Postal Rate Commission” and add, in their place, the words “Postal Regulatory Commission” in Appendix A to part 3002 (heading and introductory text).

PART 3003—PRIVACY ACT RULES

16. The authority citation for part 3003 continues to read as follows:

Authority: Privacy Act of 1974 (Pub. L. 93-579); 5 U.S.C. 552a.

§§ 3003.2 and 3003.7 [Amended]

17. Remove the words “Postal Rate Commission” and add, in their place, the words “Postal Regulatory Commission” in

a. 3003.2(a)

b. 3003.7

PART 3004—FREEDOM OF INFORMATION RULES

18. The authority citation for part 3004 is revised to read as follows:

Authority: 39 U.S.C. 503; 5 U.S.C. 552a.

[FR Doc. E7-11471 Filed 6-14-07; 8:45 am]

BILLING CODE 7710-FW-P